DEPARTMENT OF LABOR

Office of the Secretary

29 CFR Parts 2, 11, 14, 16, 20, 22, 70, 71, 75, 90, 95, 96, 97, 98, 99

Department of Labor Regulatory Review and Update

AGENCY: Office of the Secretary, Department of Labor.

ACTION: Final rule; technical amendments.

SUMMARY: The Department of Labor (DOL) is amending existing regulations to update obsolete non-substantive or nomenclature references in the Code of Federal Regulations (CFR). This action is intended to improve the accuracy of the agency's regulations and does not impose any new regulatory or technical requirements.

DATES: Effective Date: July 9, 2007.

FOR FURTHER INFORMATION CONTACT: Kathleen Franks, U.S. Department of Labor, Room S-2312, 200 Constitution Avenue, NW., Washington, DC 20210, Telephone (202) 693-5959.

SUPPLEMENTARY INFORMATION: DOL's strategic outcome goal 4.2 measures the agency's success in creating a regulatory structure that promotes compliance flexibility and reduces regulatory burden. As part of this strategic goal, DOL is conducting an ongoing review of its regulations governing labor standards, pensions, health care, and worker safety to ensure that references in the CFR are accurate and current.

This final rule corrects or removes obsolete non-substantive or nomenclature references in the CFR. For example, this rule changes references to superseded laws, adds CFR citations for OMB Circulars, and updates cross-references to standards established under other authorities such as the simplified acquisition threshold cross-referenced in 29 CFR part 95 and Federal audit thresholds in 29 CFR parts 96 and 99.

Publication of this document constitutes final action on these changes under the Administrative Procedure Act (5 U.S.C. 553). Notice of Proposed Rulemaking is unnecessary since the agency is merely updating non-substantive and nomenclature references.

Executive Order 12866

This rule has been drafted and reviewed in accordance with Executive Order 12866, section 1(b), Principles of Regulations. The agency has determined that this rule is not a “significant regulatory action” under Executive Order 12866, section 3(f), Regulatory Planning and Review. Accordingly, there is no requirement for an assessment of potential costs and benefits under section 6(a)(3) of that order.

Regulatory Flexibility Act

Because no notice of proposed rulemaking is required for this rule under section 553(b) of the Administrative Procedure Act (APA), the requirements of the Regulatory Flexibility Act (5 U.S.C. 601) pertaining to regulatory flexibility do not apply to this rule. See 5 U.S.C. 601(2).

Paperwork Reduction Act

This final rule is not subject to section 350(h) of the Paperwork Reduction Act (44 U.S.C. 3501) since it does not contain any new collection of information requirements.

Publication in Final

The Department has determined that these amendments need not be published as a proposed rule, pursuant to 5 U.S.C. 553(b)(A), since these changes are interpretive, procedural in nature, or relate to agency organization. Because this final rule does not make substantive amendments, the Department of Labor has determined that delaying the effective date of the rule is unnecessary and good cause exists under 5 U.S.C. 553(b)(B) to make this rule effective immediately upon publication in the Federal Register.

Small Business Regulatory Enforcement Fairness Act of 1996

This rule is not classified as a “rule” under Chapter 8 of the Small Business Regulatory Enforcement Fairness Act of 1996, because it is a rule pertaining to agency organization, procedure, or practice that does not substantially affect the rights or obligations of non-agency parties. See 5 U.S.C. 804(3)(C).

List of Subjects

29 CFR Part 2

Administrative practice and procedure, Construction industry, Government contracts, Minimum wages.

29 CFR Part 11

Environmental impact statements.

29 CFR Part 14

Classified information.

29 CFR Part 16

Claims, Equal access to justice, Lawyers, Reporting and recordkeeping requirements.

29 CFR Part 20

Claims, Income taxes, Reporting and recordkeeping requirements, Wages.

29 CFR Part 22

Administrative practice and procedure, Claims, Fraud, Penalties.

29 CFR Part 70

Freedom of information.

29 CFR Part 71

Privacy.

29 CFR Part 75

Business and industry, Grant programs-business, Loan programs-business.

29 CFR Part 90

Administrative practice and procedure, Grant programs-labor, Reporting and recordkeeping requirements.

29 CFR Part 95

Accounting, Colleges and universities, Grant programs, Hospitals, Nonprofit organizations, Reporting and recordkeeping requirements.

29 CFR Part 96

Accounting, Administrative practice and procedure, Colleges and universities, Grant programs, Hospitals, Indians, Intergovernmental relations, Loan programs, Nonprofit organizations, Reporting and recordkeeping requirements.

29 CFR Part 97

Accounting, Grant programs, Indians, Reporting and recordkeeping requirements.

29 CFR Part 98

Administrative practice and procedure, Grant programs, Loan programs, Reporting and recordkeeping requirements.

29 CFR Part 99

Accounting, Administrative practice and procedures, Grant programs, Hospitals, Intergovernmental relations, Loan programs, Nonprofit organizations, Reporting and recordkeeping requirements.

For the reasons set forth in the preamble, DOL amends subtitle A of title 29, Code of Federal Regulations, as follows:

PART 2—GENERAL REGULATIONS

1. The authority citation for 29 CFR part 2 continues to read as follows:

Authority: 5 U.S.C. 301, Executive Order 13198, 66 FR 8497, 3 CFR 2001 Comp., p. 750; Executive Order 13279, 67 FR 77141, 3 CFR 2002 Comp., p. 258.

§ 2.6 [Amended]

2. In § 2.6(a), remove the words “General Accounting Office” and add, in their place, the words “Government Accountability Office” and in § 2.6(b), add the words “and Management” after the words “Assistant Secretary for Administration”.

PART 11—DEPARTMENT OF LABOR NATIONAL ENVIRONMENTAL POLICY ACT (NEPA) COMPLIANCE PROCEDURES

3. The authority citation for 29 CFR part 11 continues to read as follows:

Authority: 42 U.S.C 4321 et seq., Executive Order 11514, 40 CFR parts 1500-1508.

§ 11.2 [Amended]

4. In § 11.2, remove the words “the Employment and Training Administration (ETA) (through one of its major programs, the Job Corps)” and add, in their place, the words “the Office of Job Corps” and remove the words “Comprehensive Employment and Training Act (29 U.S.C. 801, et. seq.)” and add, in their place, the words “Workforce Investment Act of 1998 (29 U.S.C. 2801, et seq.)”.

§ 11.10 [Amended]

5. In § 11.10(c)(1), remove the words “U.S. Employment Service” and add, in their place, the words “Office of Workforce Investment”.

PART 14—SECURITY REGULATIONS

6. The authority citation for 29 CFR part 14 continues to read as follows:

Authority: E.O. 12356 of April 2, 1982 (47 FR 14874).

§ 14.3 [Amended]

7. In § 14.3, revise paragraph (a) to read as set forth below; and, in paragraph (b)(2), remove “1356” and add, in its place, “12356”.

§ 14.3 DOL Classification Review Committee.

* * * * *

(a) Composition of committee. The members of this Committee are:

Chairperson—Deputy Assistant Secretary for Security and Emergency Management, OASAM.

Member—Administrative Officer, Office of the Solicitor.

Member—Director, Office of Foreign Relations, Bureau of International Labor Affairs.

Advisor—DOL Document Security Officer.

* * * * *

§ 14.4 [Amended]

8. In § 14.4(a), remove the word “Under” and add, in its place, the word “Deputy”; and, in paragraph (i), remove the words “General Services Administration” and add, in their place, the words “National Archives and Records Administration”.

§ 14.20 [Amended]

9. In § 14.20(d), add the word “Labor” between the words “International Affairs”.

§ 14.21 [Amended]

10. In § 14.21, remove “1985” and add, in its place, “1958”; and, add the word “Labor” between the words “International Affairs”.

PART 16—EQUAL ACCESS TO JUSTICE ACT

11. The authority citation for 29 CFR part 16 continues to read as follows:

Authority: Pub. L. 96-481, 94 Stat. 2327 (5 U.S.C. 504).

§ 16.104 [Amended]

12. In § 16.104(a)(4) heading, remove the words “Office of Civil Rights” and add, in their place, the words “Civil Rights Center”; in paragraph (a)(5)(i), remove the words “Comprehensive Employment and Training Act at 29 U.S.C. 818” and add, in their place, the words “Workforce Investment Act at 29 U.S.C. 2936”; and, in the same paragraph, remove the word “CETA” and add, in its place, the word “WIA”.

§ 16.107 [Amended]

13. In § 16.107(c), remove “$75.00” and add, in its place, “$125.00”.

PART 20—FEDERAL CLAIMS COLLECTION

14. The authority citation for 29 CFR part 20 continues to read as follows:

Authority: 31 U.S.C. 3711 et seq.; Subpart D is also issued under 5 U.S.C. 5514; Subpart E is also issued under 31 U.S.C. 3720A.

§§ 20.75, 20.76 [Amended]

15. Remove the words “General Accounting Office” and add, in their place, the words “Government Accountability Office” in the following places:

a. Section 20.75(c) in two places; and

b. Section 20.76(g).

PART 22—PROGRAM FRAUD CIVIL REMEDIES ACT OF 1986

16. The authority citation for 29 CFR part 22 continues to read as follows:

Authority: Pub. L. 99-509, Secs. 6101-6104, 100 Stat. 1874, 31 U.S.C. 3801-3812.

17. Revise § 22.2(l) and (q)(3) to read as follows:

§ 22.2 Definitions.

* * * * *

(l) Investigating official means the Inspector General of the Department of Labor or an officer or employee of the Office of the Inspector General designated by the Inspector General and serving in a Senior Executive Service position.

* * * * *

(q) * * *

(3) Serving in a Senior Executive Service position.

* * * * *

PART 70—PRODUCTION OR DISCLOSURE OF INFORMATION OR MATERIALS

18. The authority citation for 29 CFR part 70 continues to read as follows:

Authority: 5 U.S.C. 301, 5 U.S.C. 552, as amended; Reorganization Plan No. 6 of 1950, 5 U.S.C. Appendix; E.O. 12600, 52 FR 23781, 3 CFR, 1988 Comp., p. 235.

Appendix A to Part 70—[Amended]

19. Amend Appendix A to Part 70 as follows:

a. In paragraph (b)(1), remove the words “Director, Office of Participant Assistance & Communications, Employee Benefits Security Administration (EBSA)” and add, in their place, the words “Director, Office of Participant Assistance, Employee Benefits Security Administration (EBSA)”; and, revise the entry “Employment and Training Administration” and the accompanying list numbered 1-25 as set forth below.

b. In paragraph (b)(2) to Appendix A, for the Employee Benefits Security Administration Regional Director or District Supervisor revise entries 2, 10, and 13 as set forth below.

c. In paragraph (b)(2) to Appendix A, amend the entry for the Regional Administrators, Veterans' Employment and Training Service (VETS) by removing Regions I through X and adding in their place entries 1 through 6 as set forth below.

The revisions read as follows:

Appendix A to Part 70—Disclosure Officers

* * * * *

(b) * * *

(1) * * *

Employment and Training Administration

1. Assistant Secretary for Employment and Training, ETA.

2. Deputy Assistant Secretary, Workforce Investment System, ETA.

3. Administrator, Office of Workforce Investment, ETA.

4. Administrator, Office of Workforce Security, ETA.

5. Administrator, Office of National Response, ETA.

6. Director, Division of Trade Adjustment Assistance, ETA.

7. Administrator, Office of Field Operations, ETA.

8. Regional Administrator, Boston, ETA.

9. Regional Administrator, Philadelphia, ETA.

10. Regional Administrator, Atlanta, ETA.

11. Regional Administrator, Dallas, ETA.

12. Regional Administrator, Chicago, ETA.

13. Regional Administrator, San Francisco, ETA.

14. Deputy Assistant Secretary, Administration & National Activity, ETA.

15. Administrator, Office of Foreign Labor Certification, ETA.

16. Administrator, Office of Apprenticeship, ETA.

17. Regional Director, Office of Apprenticeship, Boston, ETA.

18. Regional Director, Office of Apprenticeship, Philadelphia, ETA.

19. Regional Director, Office of Apprenticeship, Atlanta, ETA.

20. Regional Director, Office of Apprenticeship, Dallas, ETA.

21. Regional Director, Office of Apprenticeship, Chicago, ETA.

22. Regional Director, Office of Apprenticeship, San Francisco, ETA.

23. Administrator, Office of Policy Development & Research, ETA.

24. Administrator, Office of Financial & Administrative Management, ETA.

25. Director, Office of Financial and Administrative Services, ETA.

26. Director, Office of Grants and Contracts Management, ETA.

27. Chief, Division of Contract Services, ETA.

28. Chief, Division of Federal Assistance, ETA.

29. Director, Office of Human Resources, ETA.

30. Director, Office of Equal Employment Opportunity, ETA.

31. Director, Office of Special Programs & Emergency Preparedness, ETA; and

32. Administrator, Office of Performance & Technology, ETA.

(2) * * *

Employee Benefits Security Administration Regional Director or District Supervisor

* * * * *

2. Regional Director, 33 Whitehall Street, Suite 1200, New York, NY 10004.

* * * * *

10. Regional Director, Two Pershing Square Building, 2300 Main Street, Suite 1100, Kansas City, MO 64108.

* * * * *

13. Regional Director, 90 7th Street, Suite 11-300, San Francisco, CA 94103.

* * * * *

Regional Administrators, Veterans' Employment and Training Service (VETS)

1. J.F. Kennedy Federal Building, Government Center, Room E-315, Boston, Massachusetts 02203.

2. The Curtis Center, Suite 770 West, 170 S. Independence Mall West, Philadelphia, PA 19106-2205.

3. Atlanta Federal Center, 61 Forsyth Street, SW., Room 6T85, Atlanta, Georgia 30303.

4. 230 South Dearborn, Room 1064, Chicago, Illinois 60604.

5. 525 Griffin Street, Room 858, Dallas, Texas 75202.

6. 90 Seventh Street, Suite 2-600, San Francisco, California 94103.

PART 71—PROTECTION OF INDIVIDUAL PRIVACY AND ACCESS TO RECORDS UNDER THE PRIVACY ACT OF 1974

20. The authority citation for 29 CFR part 71 continues to read as follows:

Authority: 5 U.S.C. 301; 5 U.S.C. 552a as amended; Reorganization Plan No. 6 of 1950, 5 U.S.C. Appendix.

§ 71.51 [Amended]

21. In § 71.51(a)(5), remove the words “Directorate of Civil Rights” and add, in their place, the words “Civil Rights Center”; and in paragraph (a)(34) remove the words “Division of Civil Rights” and add, in their place, the words “Division of Civil Rights and Labor Management”.

22. Revise Appendix A to Part 71 to read as follows:

Appendix A to Part 71—Responsible Officials

(a)(1) The titles of the responsible officials of the various independent agencies in the Department of Labor are listed below. This list is provided for information and to assist requesters in locating the office most likely to have responsive records. The officials may be changed by appropriate designation. Unless otherwise specified, the mailing addresses of the officials shall be: U.S. Department of Labor, 200 Constitution Avenue, NW., Washington, DC 20210-0002. When addressing communications to an office or division within a Department of Labor agency, include the agency and sub-agency name.

Administrative Review Board (ARB)

Chairperson

Office of the Assistant Secretary for Policy (OASP)

Assistant Secretary for Policy

Deputy Assistant Secretary

Bureau of Labor Statistics (BLS)

Commissioner

Associate Commissioner, Office of Administration

The mailing address for responsible officials in the Bureau of Labor Statistics is: Rm. 4040—Postal Square Bldg., 2 Massachusetts Ave., NE., Washington, DC 20212-0001.

Benefits Review Board (BRB)

Chief Administrative Appeals Judge

Employee Benefits Security Administration (EBSA)

Director, Office of Participant Assistance

Employees' Compensation Appeals Board (ECAB)

Chairperson

Employment Standards Administration (ESA)

Assistant Secretary for Employment Standards

Director, Equal Employment Opportunity Unit

Office of Management, Administration and Planning

Director, Office of Management, Administration and Planning

Office of Workers' Compensation Programs

Director, Office of Workers' Compensation Programs

Deputy Director, Office of Workers' Compensation Programs

Special Assistant to the Director

Director for Division of Planning, Policy, and Standards

Director for Federal Employees' Compensation

Director for Longshore and Harbor Workers' Compensation

Director for Coal Mine Workers' Compensation

Director for Energy Employees Occupational Illness Compensation

Wage and Hour Division

Administrator

Deputy Administrator

Deputy National Office Program Administrator

Director, Office of Enforcement Policy

Deputy Director, Office of Enforcement Policy

Director, Office of Planning and Analysis

Director, Office of Wage Determinations

Director, Office of External Affairs

Office of Federal Contract Compliance Programs

Deputy Assistant Secretary for Federal Contract Compliance Programs

Deputy Director, Office of Federal Contract Compliance Programs

Director, Division of Policy, Planning and Program Development

Deputy Director, Division of Policy, Planning and Program Development

Director, Division of Program Operations

Deputy Director, Division of Program Operations

Director, Division of Management and Administrative Programs

Office of Labor-Management Standards

Deputy Assistant Secretary for Labor-Management Standards

Employment and Training Administration (ETA)

Assistant Secretary of Labor

Deputy Assistant Secretary, Workforce Investment System

Administrator, Office of Workforce Investment

Administrator, Office of Workforce Security

Administrator, Office of National Response

Director, Division of Trade Adjustment Assistance

Administrator, Office of Field Operations

Regional Administrator, Boston

Regional Administrator, Philadelphia

Regional Administrator, Atlanta

Regional Administrator, Dallas

Regional Administrator, Chicago

Regional Administrator, San Francisco

Deputy Assistant Secretary, Administration & National Activity

Administrator, Office of Foreign Labor Certification

Administrator, Office of Apprenticeship

Regional Director, Office of Apprenticeship, Boston

Regional Director, Office of Apprenticeship, Philadelphia

Regional Director, Office of Apprenticeship, Atlanta

Regional Director, Office of Apprenticeship, Dallas

Regional Director, Office of Apprenticeship, Chicago

Regional Director, Office of Apprenticeship, San Francisco

Administrator, Office of Policy Development & Research

Administrator, Office of Financial & Administrative Management

Director, Office of Financial and Administrative Services

Director, Office of Grants and Contracts Management

Chief, Division of Contract Services

Chief, Division of Federal Assistance

Director, Office of Human Resources

Director, Office of Equal Employment Opportunity

Director, Office of Special Program & Emergency Preparedness

Administrator, Office of Performance & Technology

Bureau of International Labor Affairs (ILAB)

Deputy Undersecretary, Office of the Deputy Undersecretary

Office of Job Corps (OJC)

National Director

Regional Director, Boston

Regional Director, Philadelphia

Regional Director, Atlanta

Regional Director, Chicago

Regional Director, Dallas

Regional Director, San Francisco

Mine Safety and Health Administration (MSHA)

Director of Office of Standards, Regulations, and Standards

The mailing address for the responsible official in the Mine Safety and Health Administration is: 1100 Wilson Boulevard, Arlington, Virginia 22209.

Office of the Administrative Law Judges (OALJ)

Chief Administrative Law Judge

Legal Counsel

The mailing address for the Office of Administrative Law Judges is: Chief, Office of Administrative Law Judges, 800 K Street, NW., Suite N-400, Washington, DC 20001-8002.

Office of Adjudicatory Services (OAS)

Executive Director

Office of the Assistant Secretary for Administration and Management (OASAM)

Deputy Assistant Secretary for Operations

Deputy Assistant Secretary for Budget and Performance Planning

Deputy Assistant Secretary for Security and Emergency Management

Director, Business Operations Center

Director, Civil Rights Center

Director, Human Resources Center

Director, Information Technology Center

Director, Departmental Budget Center

Director, Center for Program Planning and Results

Office of the Chief Financial Officer (OCFO)

Chief Financial Officer

Associate Deputy Secretary for Adjudication

Office of Congressional and Intergovernmental Affairs (OCIA)

Assistant Secretary

Deputy Assistant Secretary

Office of Disability Employment Policy (ODEP)

Assistant Secretary

Deputy Assistant Secretary

Director, Policy and Research

Director, Operations

Office of the Inspector General (OIG)

Disclosure Officer

Office of Public Affairs (OPA)

Assistant Secretary

Deputy Assistant Secretary

Office of the Secretary of Labor (OSEC)

Secretary of Labor, Attention: Assistant Secretary for Administration and Management

Office of Small Business Programs (OSBP)

Director

Office of the Solicitor of Labor (SOL)

Deputy Solicitor

Occupational Safety and Health Administration (OSHA)

Assistant Secretary

Deputy Assistant Secretary (2)

Director, Office of Communications

Director, Office of Equal Employment Opportunity

Director, Directorate of Administrative Programs

Director, Directorate of Construction

Director, Directorate of Cooperative and State Programs

Director, Directorate of Enforcement Programs

Director, Directorate of Evaluation and Analysis

Director, Directorate of Information Technology

Director, Directorate of Science, Technology and Medicine

Director, Directorate of Standards and Guidance

Director, Directorate of Training and Education

The mailing address for OSHA's Directorate of Training and Education is 2020 South Arlington Heights Road, Arlington Heights, Illinois 60005-4102.

Regional Administrator, Boston

Regional Administrator, New York

Regional Administrator, Philadelphia

Regional Administrator, Atlanta

Regional Administrator, Chicago

Regional Administrator, Dallas

Regional Administrator, Kansas City

Regional Administrator, Denver

Regional Administrator, San Francisco

Regional Administrator, Seattle

Veterans' Employment and Training Service (VETS)

Assistant Secretary

Deputy Assistant Secretary

Director, Office of Agency, Management and Budget

Women's Bureau

Director

National Office Coordinator

(2) The titles of the responsible officials in the regional offices of the various independent agencies are listed below. Unless otherwise specified, the mailing address for these officials by region, shall be:

Region I

U.S. Department of Labor, John F. Kennedy Federal Building, Boston, Massachusetts 02203

Region II

201 Varick Street, New York, New York 10014

Region III

Gateway Building, 3535 Market Street, Philadelphia, Pennsylvania 19104

Curtis Center, 170 South Independence Mall West, Philadelphia, PA 19106-3305 (BLS only) This also is an OSHA address.

Region IV

U.S. Department of Labor, Atlanta Federal Center, 61 Forsyth Street, SW., Atlanta, Georgia 30303

Region V

Kluczynski Federal Building, 230 South Dearborn Street, Chicago, Illinois 60604

1240 East Ninth Street, Room 851, Cleveland, Ohio 44199 (FEC only)

Region VI

525 Griffin Square Building, Griffin & Young Streets, Dallas, Texas 75202

Region VII

City Center Square Building, 1100 Main Street, Kansas City, Missouri 64105-2112 (For BLS only: contact Region VI.)

Region VIII

1999 Broadway Street, Denver, Colorado 80202 (For BLS only: contact Region VI.)

Region IX

San Francisco Federal Building, 90-7th Street, San Francisco, California 94103

Region X

1111 Third Avenue, Seattle, Washington 98101-3212 (For BLS only: contact Region IX.)

Employee Benefits Security Administration (EBSA)

Regional Director or District Supervisor

Regional Director, J.F.K. Federal Bldg., Room 575, Boston, Massachusetts 02203

Regional Director, 33 Whitehall Street, Suite 1200, New York, NY 10004

Regional Director, The Curtis Center, 170 S. Independence Mall West, Suite 870 West, Philadelphia, PA 19106

District Supervisor, 1335 East-West Highway, Suite 200, Silver Spring, MD 20910

Regional Director, 61 Forsyth Street, S.W., Room 7B54, Atlanta, Georgia 30303

District Supervisor, 8040 Peters Road, Building H, Suite 104, Plantation, Florida 33324

Regional Director, 1885 Dixie Highway, Suite 210, Ft. Wright, Kentucky 41011

District Supervisor, 211 West Fort Street, Suite 1310, Detroit, Michigan 48226-3211

Regional Director, 200 West Adams Street, Suite 1600, Chicago, Illinois 60606

Regional Director, Two Pershing Square Building, 2300 Main Street, Suite 1100, Kansas City, MO 64108

District Supervisor, Young Federal Building, 1222 Spruce Street, Room 6310, St. Louis, MO 63103

Regional Director, 525 Griffin Street, Room 900, Dallas, Texas 75202

Regional Director, 90 7th Street, Suite 11-300, San Francisco, CA 94103

District Director, 1111 Third Avenue, Room 860, Seattle, Washington 98101-3212

Regional Director, 1055 E. Colorado Boulevard, Suite 200, Pasadena, CA 91106

Employment Standards Administration (ESA)

Regional Administrator for Wage and Hour, Regional Director for Federal Contract Compliance Programs, Regional Director for the Office of Workers' Compensation Programs, District Director, Office of Workers' Compensation Programs, Employment Standards Administration

Wage and Hour Division, ESA

Northeast Region

The Curtis Center, Suite 850, 170 S. Independence Mall West, Philadelphia, PA 19106

Southeast Region

U.S. Department of Labor, Atlanta Federal Center, Room 7M40, 61 Forsyth Street, SW., Atlanta, GA, 30303

Midwest Region

230 South Dearborn Street, Suite 530, Chicago, Illinois 60604

Southwest Region

525 Griffin Street, Suite 800, Dallas, TX 75202

Western Region

71 Stevenson Street, Suite 930, San Francisco, California 94105

Office of Federal Contract Compliance Programs, ESA

JFK Federal Building, Room E-235, Boston, Massachusetts 02203

201 Varick Street, Room 750, New York, New York 10014

Curtis Center Suite 750 West, 170 S. Independence Mall West, Philadelphia, PA 19106

61 Forsyth Street, SW, Suite 7B75, Atlanta, Georgia 30303

Klucynski Federal Building, Room 570, 230 South Dearborn Street, Chicago, Illinois 60604

Federal Building, Room 840, 525 South Griffin Street, Dallas, Texas 75202

71 Stevenson Street, Suite 1700, San Francisco, California 94105-2614

Office of Workers' Compensation Programs, District Directors

National Office

800 North Capitol Street NW., Room 800, Washington, DC 20211 (FECA Only)

FAB Offices

800 N. Capitol Street, Room 565, Washington, DC 20211 (EEOIC Only)

400 West Bay Street, Room 722, Jacksonville, FL 32202 (EEOIC Only)

1001 Lakeside Avenue Suite 350, Cleveland, OH 44114 (EEOIC Only)

1999 Broadway, Suite 1120, Denver, CO 80202 (EEOIC Only)

719 Second Avenue, Suite 601, Seattle, WA 98104 (EEOIC Only)

Northeast Region

201 Varick Street, Seventh Floor, Room 750, New York, NY 10014 (FECA and LHWCA only)

201 Varick Street, Seventh Floor, Room 740, New York, New York 10014 (FECA and LHWCA only)

John F. Kennedy, Federal Building, Room E-260, Boston, Massachusetts 02203 (FECA and LHWCA Only)

Philadelphia Region

Curtis Center, Suite 780 West, 170 S. Independence Mall West, Philadelphia, PA 19106 (FECA only)

Curtis Center, Suite 715 East, 170 S. Independence Mall West, Philadelphia, PA 19106 (FECA only)

Penn Traffic Building, 319 Washington Street, Johnstown, Pennsylvania 15901 (BLBA only)

100 North Wilkes Barre Blvd., Suite 300A, Wilkes-Barre, Pennsylvania 18702 (BLBA only)

Wellington Square, 1225 South Main Street, Suite 405, Greensburg, Pennsylvania 15601 (BLBA only)

Federal Building, 31 Hopkins Plaza, Room 410B, Baltimore, Maryland 21201 (LHWCA Only)

Federal Building, 200 Granby Mall, Room #212, Norfolk, Virginia 23510 (LHWCA only)

Federal Building, 500 Quarrier Street, Suite 110, Charleston, West Virginia 25301 (BLBA Only)

Federal Building, 425 Juliana Street, Suite 3116, Parkersburg, West Virginia 26101 (BLBA Only)

Jacksonville Region

400 West Bay Street, Suite 943, Jacksonville, FL 32202 (FECA, EEOIC and LHWC)

400 West Bay Street, Room 826, Jacksonville, FL 32202 (FECA only)

164 Main Street, Fifth Floor, Suite 508, Pikeville, Kentucky 41501 (BLBA only)

400 West Bay Street, Room 63A, Jacksonville, Florida 32202 (LHWCA only)

400 West Bay Street, Room 722, Jacksonville, Florida 32202 (DEEOIC only)

Midwest Region

230 South Dearborn Street, 8th Floor, Room 800, Chicago, Illinois 60604 (FECA)

1240 East Ninth Street, Room 851, Cleveland, Ohio 44199 (FECA Only)

1160 Dublin Road, Suite 300, Columbus, Ohio 43215 (BLBA Only)

City Center Square, 1100 Main Street, Suite 750, Kansas City, Missouri 64105 (FECA Only)

North Point Tower, 1001 Lakeside Ave, Suite 350, Cleveland, OH 44114 (EEOIC Only)

Southwest Region

525 South Griffin Street, Room 407, Federal Building, Dallas, Texas 75202 (FECA and DLHWC)

525 South Griffin Street, Room 100, Federal Building, Dallas, Texas 75202 (FECA Only)

P.O. Box 30728 New Orleans, Louisiana 70190 (LHWCA Only)

8866 Gulf Freeway, Suite 140, Houston, Texas 77017 (LHWCA Only)

1999 Broadway, Suite 600, Denver, Colorado 80202 (FECA and BLBA Only)

1999 Broadway, Suite 1120, Denver, Colorado 80202 (DEEOIC)

Pacific Region

71 Stevenson Street, Room 1705, San Francisco, California 94105 (LHWCA and FECA)

71 Stevenson Street, Room 305, San Francisco, California 94105 (LHWCA and FECA)

401 E. Ocean Boulevard, Suite 720, Long Beach, California 90802 (LHWCA Only)

300 Ala Moana Boulevard, Room 5-135, Honolulu, Hawaii 96850 (LHWCA Only)

1111 Third Avenue, Suite 620, Seattle, Washington 98101 (LHWCA only)

1111 Third Avenue, Suite 650, Seattle, Washington 98101 (FECA only)

719 Second Avenue, Suite 601, Seattle, Washington 98101 (DEEOIC only)

Employment and Training Administration (ETA)

Region I

U.S. Department of Labor, John F. Kennedy Federal Building, Room E-350, Boston, Massachusetts 02203

Region II

The Curtis Center 170 South Independence Mall West, Suite 825 East, Philadelphia, PA 19106-3315

Region III

Sam Nunn Atlanta Federal Center, 61 Forsyth Street, SW., Room 6M12, Atlanta, Georgia 30303

Region IV

A. Maceo Smith Federal Building 525 S. Griffin Street, Room 317, Dallas, TX 75202

Region V

John Kluczynski Federal Building, 230 South Dearborn Street, Room 628, Chicago, Illinois 60604

Region VI

71 Stevenson Street, Room 830, San Francisco, California 94119-3767

Office of Job Corps

Boston Region

John F. Kennedy Federal Building E-350, Boston, Massachusetts 02203

Philadelphia Region

The Curtis Center, Suite 815 East, 170 South Independence Mall West, Philadelphia, Pennsylvania, 19106

Atlanta Region

62 Forsyth Street, Room 6T95, Atlanta, Georgia 30303

Chicago Region

Federal Building, 230 South Dearborn Street, Room 676, Chicago, Illinois 60604

Dallas Region

525 Griffin Street, Room 403, Dallas, Texas 75202

San Francisco Region

71 Stevenson Street, Suite 1015, San Francisco, California 94105

Office of the Assistant Secretary for Administration and Management (OASAM)

Region I

Regional Administrator—John F. Kennedy Federal Building E 215, Boston, MA 02203

Region II

Regional Administrator—201 Varick Street, Room 815, New York, NY 10014

Region III

Regional Administrator—The Curtis Center, Suite 600 East, 170 S. Independence Mall West, Philadelphia, PA 19106-3305

Region IV

Regional Administrator—Sam Nunn Atlanta Federal Center, 61 Forsyth Street, SW., Room 6B65, Atlanta, GA 30303

Region V

Regional Administrator—230 South Dearborn Street, 10th Floor, Chicago, IL 60604

Region VI

Regional Administrator—525 Griffin Street, Room 744, Dallas, TX 75202

Region VII

Regional Administrator—1100 Main Street, Suite 850, Kansas City, MO 64105-2112

Region IX

Regional Administrator—71 Stevenson Street, Suite 515, San Francisco, CA 94105

Region X

Regional Administrator—1111 3rd Avenue, Suite 815, Seattle, WA 98101-3212

Occupational Safety and Health Administration (OSHA)

Regional Administrator—John F. Kennedy Federal Building, Room E-340, Boston, Massachusetts 02203

Area Director

Federal Office Building, 450 Main Street, Room 613, Hartford, Connecticut 06103

1057 Broad Street, 4th Floor, Bridgeport, Connecticut 06604

639 Granite Street, 4th Floor, Braintree, Massachusetts 02184

1441 Main Street, Room 550, Springfield, Massachusetts 01103-1493

Valley Office Park, 13 Branch Street, Methuen, Massachusetts 01844

E.S. Muskie Federal Building, 40 Western Avenue, Room G-26, Augusta, Maine 04330

202 Harlow Street, Room 240, Bangor, Maine 04401

53 Pleasant Street, Room 3901, Concord, New Hampshire 03301

Federal Office Building, 380 Westminster Mall, Room 543, Providence, Rhode Island 02903

Regional Administrator—201 Varick Street, Room 670, New York, New York 10014

Area Director

500 Route 17 South, 2nd Floor, Hasbrouck Heights, New Jersey 07604

Marlton Executive Park, Building 2, 701 Route 73 South, Suite 120, Marlton, New Jersey 08053

1030 St. Georges Avenue, Plaza 35, Suite 205, Avenel, New Jersey 07001

299 Cherry Hill Road, Suite 103, Parsippany, New Jersey 07054

201 Varick Street, Room 908, New York, New York 10014

1400 Old Country Road, Suite 208, Westbury, New York 11590

45-17 Marathon Parkway, Little Neck, New York 11362

401 New Karner Road, Suite 300, Albany, New York 12205-3809

3300 Vickery Road, North Syracuse, New York 13212

130 South Elmwood Avenue, Room 500, Buffalo, New York 14202-2465

660 White Plains Road, 4th Floor, Tarrytown, New York 10591-5107

Triple S Building, 1510 F.D. Roosevelt Avenue, Suite 5B, Guaynabo, Puerto Rico 00968

Regional Administrator—The Curtis Center—Suite 740 West, 170 South Independence Mall West, Philadelphia, PA 19106-3309

919 Market Street, Mellon Bank Building, Suite 900, Wilmington, Delaware 19801-3319

1099 Winterson Road, Suite 140, Linthicum, Maryland 21090-2218

U.S. Custom House, Room 242, Second & Chestnut Street, Philadelphia, Pennsylvania 19106-2902

Federal Building, 1000 Liberty Avenue, Room 1428, Pittsburgh, Pennsylvania 15222-4101

1128 State Street, Suite 200, Erie, Pennsylvania 16501

The Stegmaier Building, Suite 410, 7 North Wilkes-Barre Boulevard, Wilkes-Barre, Pennsylvania 18702-5241

850 North 5th Street, Allentown, Pennsylvania 18102-1731

Progress Plaza, 49 North Progress Avenue, Harrisburg, Pennsylvania 17109-3596

Federal Office Building, 200 Granby Street, Room 614, Norfolk, Virginia 23510-1819

405 Capitol Street, Suite 407, Charleston, West Virginia 25301-1727

Regional Administrator—Sam Nunn Atlanta Federal Center, 61 Forsyth Street, SW., Room 6T50, Atlanta, Georgia 30303

Area Director

950 22nd Street North, Suite 1050, Birmingham, Alabama 35203

1141 Montlimar Drive, Suite 1006, Mobile, Alabama 36609

8040 Peters Road, Building H-100, Fort Lauderdale, Florida 33324

Ribault Building, Suite 227, 1851 Executive Center Drive, Jacksonville, Florida 32207

5807 Breckenridge Parkway, Suite A, Tampa, Florida 33610-4249

2400 Herodian Way, Suite 250, Smyrna, Georgia 30080-2968

450 Mall Boulevard, Suite J, Savannah, Georgia 31406

La Vista Perimeter Office Park, 2183 N. Lake Parkway, Building 7, Suite 110, Tucker, Georgia 30084-4154

John C. Watts Federal Building, 330 West Broadway, Room 108, Frankfort, Kentucky 40601-1922

3780 I-55 North, Suite 210, Jackson, Mississippi 39211-6323

4407 Bland Road, Suite 210, Raleigh, North Carolina 27609

Strom Thurman Federal Building, 1835 Assembly Street, Room 1472, Columbia, South Carolina 29201-2453

2002 Richard Jones Road, Suite C-205, Nashville, Tennessee 37215-2809

Regional Administrator—John Kluczynski Federal Building, 230 South Dearborn Street, Room 3244, Chicago, Illinois 60604

Area Director

1600 167th Street, Suite 9, Calumet City, Illinois 60409

701 Lee Street, Suite 950, Des Plaines, Illinois 60016

365 Smoke Tree Plaza, North Aurora, Illinois 60542

11 Executive Drive, Suite 11, Fairview Heights, Illinois 62208

2918 W. Willow Knolls Road, Peoria, Illinois 61614

46 East Ohio Street, Room 423, Indianapolis, Indiana 46204

315 West Allegan, Room 207, Lansing, Michigan 48933

Federal Office Building, 1240 East 9th Street, Room 899, Cleveland, Ohio 44199

Federal Office Building, 200 N. High Street, Room 620, Columbus, Ohio 43215

420 Madison Avenue, Suite 600, Toledo, Ohio 43604

36 Triangle Park Drive, Cincinnati, Ohio 45246

1648 Tri Parkway, Appleton, Wisconsin 54914

Henry S. Reuss Building, Room 1180, 310 West Wisconsin Avenue, Milwaukee, Wisconsin 53203

1310 W. Clairemont Avenue, Eau Claire, Wisconsin 54701

4802 East Broadway, Madison, Wisconsin 53716

Regional Administrator—A. Maceo Smith Federal Building, 525 S. Griffin Street, Room 602, Dallas, TX 75202

Area Director

10810 Executive Center Drive, Danville Building 2, Suite 206, Little Rock, Arkansas 72211

9100 Bluebonnet Centre Blvd., Suite 201, Baton Rouge, Louisiana 70809

55 North Robinson, Suite 315, Oklahoma City, Oklahoma 73102-9237

8344 East R.L. Thornton Freeway, Suite 420, Dallas, Texas 75228

La Costa Green Building, 1033 La Posada, Suite 375, Austin, Texas 78752-3832

Wilson Plaza, 606 N. Carancahua, Suite 700, Corpus Christi, Texas 78476

Federal Office Building, 1205 Texas Avenue, Room 806, Lubbock, Texas 79401

Houston North Area Office, 507 North Sam Houston Parkway East, Suite 400, Houston, Texas 77060

17625 El Camino Real, Suite 400, Houston, Texas 77058

8713 Airport Freeway, Suite 302, Fort Worth, Texas 76180-7610

4849 North Mesa Street, Suite 200, El Paso, Texas 79912-5936

Regional Administrator—City Center Square, 1100 Main Street, Suite 800, Kansas City, Missouri 64105

Area Director

210 Walnut Street, Room 815, Des Moines, Iowa 50309-2015

271 W. 3rd Street North, Room 400, Wichita, Kansas 67202

6200 Connecticut Avenue, Suite 100, Kansas City, Missouri 64120

911 Washington Avenue, Room 420, St. Louis, Missouri 63101

Overland—Wolf Building, 6910 Pacific Street, Room 100, Omaha, Nebraska 68106

Regional Administrator—1999 Broadway, Suite 1690, Denver, Colorado 80202

Area Director

7935 East Prentice Avenue, Suite 209, Greenwood Village, Colorado 80011-2714

1391 Speer Boulevard, Suite 210, Denver, Colorado 80204-2552

2900 Fourth Avenue North, Suite 303, Billings, Montana 59101

1640 East Capitol Avenue, Bismarck, North Dakota 58501

Regional Administrator—90 7th Street, Suite 18-100, San Francisco, California 94103

Regional Administrator—1111 Third Avenue, Suite 715, Seattle, Washington 98101-3212

Area Director

222 W. 7th Avenue, Box 22, Anchorage, Alaska 99513

1150 North Curtis Road, Suite 201, Boise, Idaho 83706

1220 Southwest 3rd Avenue, Room 640, Portland, Oregon 97204

505 106th Avenue NE, Suite 302, Belleview, Washington 98004

Veterans' Employment and Training Service (VETS)

Regional Administrators

Boston Regional Office

J.F. Kennedy Federal Building, Government Center, Room E-315, Boston, Massachusetts 02203

Philadelphia Regional Office

The Curtis Center, Suite 770 West, 170S. Independence Mall West, Philadelphia, PA 19106-2205

Atlanta Regional Office

Atlanta Federal Center, 61 Forsyth Street, SW., Room 6T85, Atlanta, Georgia 30303

Chicago Regional Office

230 South Dearborn, Room 1064, Chicago, Illinois 60604

Dallas Regional Office

525 Griffin Street, Room 858, Dallas, Texas 75202

San Francisco Regional Office

90 Seventh Street Suite 2-600, San Francisco, California 94103

PART 75—DEPARTMENT OF LABOR REVIEW AND CERTIFICATION PROCEDURES FOR RURAL INDUSTRIALIZATION LOAN AND GRANT PROGRAMS UNDER THE CONSOLIDATED FARM AND RURAL DEVELOPMENT ACT

23. The authority citation for 29 CFR part 75 continues to read as follows:

Authority: Sec. 118, Pub. L. 92-419, 86 Stat. 663 (7 U.S.C. 1932).

§ 75.1 [Amended]

24. In § 75.1(a), add the word “(USDA)” after the words “U.S. Department of Agriculture”; and, in paragraph (c) remove the words “, with the objective of complying with the intent of Congress that most applications will be acted upon”.

§ 75.11 [Amended]

25. Amend § 75.11 as follows:

a. In paragraphs (a)(1)(ii), (a)(1)(iii), (a)(2), (b)(1)(ii), and (b)(1)(iii), remove the word “FHA” and add, in its place, the word “RD”;

b. In paragraph (b)(2) remove the words “State Employment Security Agencies” and add, in their place, the words “State workforce agencies”; and

c. In paragraph (b)(1)(iv) remove the word “reports” and add, in its place, the word “Reports”.

§§ 75.1, 75.11 [Amended]

26. Amend §§ 75.1, and 75.11 as follows:

a. In § 75.1(b) and § 75.11(a), remove the words “Manpower Administration (MA)” and add, in their place, the words “Employment and Training Administration (ETA)”.

b. In § 75.1(a) and § 75.11(b)(3), remove the words “Farmers Home Administration” and add, in their place, the words “Rural Development Administration”.

c. In § 75.1(c) in two places and in § 75.11(b)(6), remove the words “the Department of Agriculture” and add, in their place, the word “USDA”.

d. In § 75.1(b), (c), and § 75.11, (b)(2) and (b)(5), remove the number “60” and add, in its place, the number “30”.

e. In § 75.1(a) in two places, and § 75.11(a)(1), (a)(2) in three places, (a)(3) in two places, (a)(4), (b)(1) introductory text, (b)(1)(iv), (b)(2), and (b)(5) in two places, remove the word “FmHA” and add, in its place, the word “RDA”.

f. In § 75.11(a)(1) introductory text, (a)(1)(iii), (a)(2), (a)(3) in three places, (a)(4), (b)(1) introductory text in two places, (b)(1)(iv), (b)(2) in four places, (b)(3), (b)(4), and (b)(5), remove the word “MA” and add, in its place, the word “ETA”.

PART 90—CERTIFICATION OF ELIGIBILITY TO APPLY FOR WORKER ADJUSTMENT ASSISTANCE

27. The authority citation for 29 CFR part 90 continues to read as follows:

Authority: 19 U.S.C 2320; Secretary's Order No. 3-2007, 72 FR 15907.

§ 90.2 [Amended]

28. In § 90.2, remove the definition of “Deputy Director”.

§§ 90.2, 90.11, 90.18, 90.31 [Amended]

29. Remove the words “601 D Street, NW., Washington, DC 20213, and add, in their place, the words “200 Constitution Avenue, NW., Washington DC 20210” in the following places:

a. Section 90.2;

b. Section 90.11(c);

c. Section 90.18(a); and

d. Section 90.31(a).

§§ 90.2, 90.11, 90.12, 90.17, 90.18, 90.21, 90.31, 90.32, 90.33 [Amended]

30. Remove the words “Office of Trade Adjustment Assistance”, and add, in their place, the words, “Division of Trade Adjustment Assistance” in the following places:

a. Section 90.2 in four places;

b. Section 90.11(c);

c. Section 90.12;

d. Section 90.17(a);

e. Section 90.18(a)

f. Section 90.21(a);

g. Section 90.31(a) in two places and in (b);

h. Section 90.32(a); and

i. Section 90.33(c).

§§ 90.13, 90.14, 90.19 [Amended]

31. In § 90.13(a)(2), (d), § 90.14 (a), (b), (d), and § 90.19(c), remove the words “or Deputy Director”.

§ 90.11 [Amended]

32. In § 90.11(c), remove the words “State Employment Security Agency” and add, in their place, the words “State workforce agency”.

§ 90.34 [Amended]

33. In § 90.34, remove the words “State Employment Security Agencies” and add, in their place, the words “State workforce agencies”.

§ 90.35 [Removed and reserved]

34. Remove and reserve § 90.35.

PART 95—GRANTS AND AGREEMENTS WITH INSTITUTIONS OF HIGHER EDUCATION, HOSPITALS, AND OTHER NON-PROFIT ORGANIZATIONS, AND WITH COMMERCIAL ORGANIZATIONS, FOREIGN GOVERNMENTS, ORGANIZATIONS UNDER THE JURISDICTION OF FOREIGN GOVERNMENTS, AND INTERNATIONAL ORGANIZATIONS

35. The authority citation for 29 CFR part 95 is revised to read as follows:

Authority: 5 U.S.C. 301; OMB Circular A-110, as amended, as codified at 2 CFR part 215.

§ 95.2 [Amended]

36. In § 95.2(ii), remove the words “small purchase threshold” and add, in their place, the words “simplified acquisition threshold”, and remove the words “currently $25,000” and add, in their place, the words “currently $100,000, subject to adjustment for inflation”.

§§ 95.25, 95.27 [Amended]

37. In § 95.25(c)(6) and § 95.27, remove the words “Circular A-21,” and add, in their place, the words “Circular A-21 (codified at 2 CFR part 220),” and remove the words “Circular A-122,” and add, in their place, the words “Circular A-122 (codified at 2 CFR part 230),”.

§ 95.27 [Amended]

38. In § 95.27, remove the words “Circular A-87”, and add, in their place, the words “Circular A-87 (codified at 2 CFR part 225),”.

39. Revise § 95.28 to read as follows:

§ 95.28 Period of availability of funds.

(a) Where a funding period is specified, a recipient may charge to the grant only allowable costs resulting from obligations incurred during the funding period and any pre-award costs authorized by DOL.

(b) Where an expenditure period is specified, a grantee may charge to the award only the accrued expenditures incurred during the expenditure period.

§ 95.44 [Amended]

40. Amend § 95.44 as follows:

a. In paragraph (b)(5), remove the words “and Minority Affairs” and add, in their place, the word “Programs”;

b. In paragraphs (e)(2), (e)(3), (e)(4) and (e)(5), remove the words “small purchase threshold” and add, in their place, the words “simplified acquisition threshold”; and

c. In paragraph (e)(2), remove “$25,000” and add, in its place, “$100,000, subject to adjustment for inflation”.

§§ 95.46, 95.48, Appendix A to Part 95 [Amended]

41. In § 95.46, § 95.48(a), (b), and (d), and paragraph 8 of Appendix A to Part 95, remove the words “small purchase threshold” and add, in their place, the words “simplified acquisition threshold”.

§ 95.48, Appendix A to Part 95 [Amended]

42. In § 95.48(e) and the introductory text of Appendix A to Part 95, remove the words “small purchases” and add, in their place, the words “simplified acquisitions”.

§ 95.71 [Amended]

43. In § 95.71(b), add the words “and/or accrued expenditures” after the word “obligations”.

PART 96—AUDIT REQUIREMENTS FOR GRANTS, CONTRACTS, AND OTHER AGREEMENTS

44. The authority citation for 29 CFR part 96 is revised to read as follows:

Authority: 31 U.S.C. 7501 et seq. and OMB Circular No. A-133, as amended.

§ 96.54 [Amended]

45. In § 96.54 introductory text, after the words “fiscal year”, add the words “or $500,000 for fiscal years ending after December 31, 2003”.

§ 96.63 [Amended]

46. Amend § 96.63 as follows:

a. In paragraph (b)(4), remove the second reference to “Secretary” and add, in its place, the words “Administrative Review Board (the Board)”; and, remove the fourth reference to “Secretary” and add, in its place, the word “Board”; and

b. In paragraph (b)(5) heading, remove the words “Review by the Secretary of Labor” and add, in their place, the words “Review by the Administrative Review Board”; and, remove the first reference in the text to “Secretary” and add, in its place, the words “Administrative Review Board”.

PART 97—UNIFORM ADMINISTRATIVE REQUIREMENTS FOR GRANTS AND COOPERATIVE AGREEMENTS TO STATE AND LOCAL GOVERNMENTS

47. The authority citation for 29 CFR part 97 continues to read as follows:

Authority: 5 U.S.C. 301; OMB Circular A-102.

§ 97.4 [Amended]

48-49. Amend § 97.4 as follows:

a. In paragraph (a)(3)(i), remove the words “Aid to Needy Families with Dependent Children” and add, in their place, the words “Temporary Assistance for Needy Families”; and,

b. In paragraph (a)(10), remove the words “Veterans Administration's” and add, in their place, the words “Department of Veterans Affairs”'.

§ 97.22 [Amended]

50. Revise § 97.22(b) to read as follows:

§ 97.22 Allowable costs.

* * * * *

(b) Applicable cost principles. For each kind of organization, there is a set of Federal principles for determining allowable costs. Allowable costs will be determined in accordance with the cost principles applicable to the organization incurring the costs. The following chart lists the kinds of organizations and the applicable cost principles.

For the costs of a— | Use the principles in—
State, local or Indian tribal government | OMB Circular A-87 (as codified at 2 CFR part 225).
Private nonprofit organization other than an (1) institution of higher education, (2) hospital, or (3) organization named in OMB Circular A-122 (as codified at 2 CFR part 230) as not subject to that circular | OMB Circular A-122 (as codified at 2 CFR part 230).
Educational institutions | OMB Circular A-21 (as codified at 2 CFR part 220).
For-profit organization other than a hospital and an organization named in OMB Circular A-122 (as codified at 2 CFR part 230) as not subject to that circular | 48 CFR part 31. Contract Cost Principles and Procedures, or uniform cost accounting standards that comply with cost principles acceptable to the Federal agency.

§ 97.26 [Amended]

51. In § 97.26(b), remove the words “expends $300,000 or more (or other amount as specified by OMB)” and add, in their place, the words “expends $300,000 or more (or $500,000 or more for fiscal years ending after December 31, 2003 or such other amount as specified by OMB)”, and, in § 97.26(b)(1) and (b)(2), remove the words “Circular A-110,” and add, in their place, “Circular A-110 (as codified at 2 CFR part 215),”.

§ 97.36 [Amended]

52. In § 97.36(d)(1), remove the words “set at $100,000” and add, in their place, “set at $100,000, subject to adjustment for inflation”.

§ 97.42 [Amended]

53. In § 97.42(f), after the words “apply to records” insert the words “owned and possessed by the grantee.”.

PART 98—GOVERNMENTWIDE DEBARMENT AND SUSPENSION (NONPROCUREMENT)

54. The authority citation for 29 CFR part 98 continues to read as follows:

Authority: 5 U.S.C. 301, Pub. L. 103-355, 108 Stat. 3327 (31 U.S.C. 6101 NOTE); E.O. 11738, 3 CFR, 1973 Comp., p. 799; E.O. 12549, 3 CFR, 1986 Comp., p. 189; E.O. 12689, 3 CFR, 1989 Comp., p. 235.

§ 98.530 [Amended]

55. In § 98.530(a), remove “http://epls.arnet.gov” and add, in its place, “http://www.epls.gov” and, in § 98.530(b), remove “(202) 783-3238” and add, in its place, “(202) 512-1800, or (866) 512-1800 (toll free)”.

PART 99—AUDITS OF STATES, LOCAL GOVERNMENTS AND NON-PROFIT ORGANIZATIONS

56. The authority citation for 29 CFR part 99 is revised to read as follows:

Authority: Public Law 104-156, 110 Stat. 1396 (31 U.S.C. 7500 et seq.) and OMB Circular A-133, as amended.

57. In § 99.200(a) and (b), after the words “Federal awards”, add the words “(or $500,000 for fiscal years ending after December 31, 2003)”, and revise paragraph (d) to read as set forth below:

§ 99.200 Audit requirements.

* * * * *

(d) Exemption when Federal awards expended are less than $300,000 (or $500,000 for fiscal years ending after December 31, 2003). Non-Federal entities that expend less than $300,000 a year in Federal awards (or $500,000 for fiscal years ending after December 31, 2003) are exempt from Federal audit requirements for that year, except as noted in § 99.215(a), but records must be available for review or audit by appropriate officials of the Federal agency, pass-through entity, and Government Accountability Office (GAO).

* * * * *

§ 99.230 [Amended]

58. In § 99.230(b)(2), after the words “Federal awards expended are less than $300,000 per year”, add the words “(or $500,000 for fiscal years ending after December 31, 2003)”.

59. Revise § 99.305(a) to read as follows:

§ 99.305 Auditor selection.

(a) Auditor procurement. In procuring audit services, auditees shall follow the procurement standards prescribed by OMB Circular A-102, “Grants and Cooperative Agreements with State and Local Governments;” 29 CFR part 97, “Uniform Administrative Requirements for Grants and Cooperative Agreements to State and Local Governments;” OMB Circular A-110, “Uniform Administrative Requirements for Grants and Agreements with Institutions of Higher Education, Hospitals and Other Non-Profit Organizations;” (codified at 2 CFR part 215); or the FAR (48 CFR part 42), as applicable. (OMB Circulars are available on-line at http://www.whitehouse.gov/omb/circulars/index.html.) Whenever possible, auditees shall make positive efforts to utilize small businesses, minority-owned firms, and women's business enterprises, in procuring audit services as stated in OMB Circular A-102, OMB Circular A-110 (2 CFR part 215), or the FAR (48 CFR part 42), as applicable. In requesting proposals for audit services, the objectives and scope of the audit should be made clear. Factors to be considered in evaluating each proposal for audit services include the responsiveness to the request for proposal, relevant experience, availability of staff with professional qualifications and technical abilities, the results of external quality control reviews, and price.

* * * * *

§§ 99.400, 99.520 [Amended]

60. In § 99.400(d)(4) and § 99.520(b)(1)(i) and (d)(2)(ii), after the number “$300,000”, add the words “(or $500,000 for fiscal years ending after December 31, 2003)”.

Dated: June 27, 2007.
Susan Howe,
Deputy Assistant Secretary for Policy.

[FR Doc. E7-12765 Filed 7-6-07; 8:45 am]

BILLING CODE 4510-23-P